DEPARTMENT OF COMMERCE

International Trade Administration

Infrastructure Business Development Mission to Morocco, Egypt, and Jordan December 3-11, 2014

AGENCY: International Trade Administration, Department of Commerce.

ACTION: Notice.

SUMMARY: The United States Department of Commerce, International Trade Administration, is amending the Notice published at 79 FR 23933 (April 29, 2014), regarding the executive-led Infrastructure Business Development Mission to Morocco, Egypt and Jordan, scheduled for December 3-11, 2014, to extend the date of the application deadline from September 12, 2014 to the new deadline of September 30, 2014.

SUPPLEMENTARY INFORMATION: Amendments to Revise the Dates

Background

Due to the summer holidays, it has been determined that additional time is needed to allow for additional recruitment and marketing in support of the Mission. Applications will now be accepted through September 30, 2014 (and after that date if space remains and scheduling constraints permit). Interested U.S. companies and trade associations/organizations providing infrastructure goods and services which have not already submitted an application are encouraged to do so.

The U.S. Department of Commerce will review applications and make selection decisions on a rolling basis in accordance with the Notice published at 79 FR 23933 (April 29, 2014) The applicants selected will be notified as soon as possible.

Contact Information

Gemal Brangman, International Trade Specialist, Trade Missions, U.S. Department of Commerce, Washington, DC 20230, Tel: 202-482-3773, Fax: 202-482-9000, Gemal.Brangman@trade.gov.

Elnora Moye,
Trade Program Assistant.

[FR Doc. 2014-22223 Filed 9-17-14; 8:45 am]

BILLING CODE 3510-DS-P